DEPARTMENT OF TRANSPORTATION

Federal Aviation Administration

14 CFR Parts 117, 119, and 121

[Docket No. FAA-2009-1093; Amdt. Nos. 117-1A, 119-16A, 121-357A]

RIN 2120-AJ58

Flightcrew Member Duty and Rest Requirements; Correction

AGENCY: Federal Aviation Administration, DOT.

ACTION: Final rule; correction.

SUMMARY: The FAA is correcting the final flightcrew member duty and rest rule published on January 4, 2012. In that rule, the FAA amended its existing flight, duty and rest regulations applicable to certificate holders and their flightcrew members operating certain domestic, flag, and supplemental operations. This document corrects the effective date and several errors in the codified text of the final flightcrew member duty and rest rule.

DATES: The effective date for the rule published January 4, 2012, at 77 FR 330, is corrected to January 4, 2014. The corrections in this document are effective January 4, 2014.

FOR FURTHER INFORMATION CONTACT: For technical questions concerning this action, contact Dale E. Roberts, Air Transportation Division (AFS-200), Flight Standards Service, Federal Aviation Administration, 800 Independence Avenue SW., Washington, DC 20591; telephone (202) 267-5749; email dale.e.roberts@faa.gov.

For legal questions concerning this action, contact Alex Zektser, AGC-220, Office of Chief Counsel, Regulations Division, Federal Aviation Administration, 800 Independence Avenue SW., Washington, DC 20591; telephone (202) 267-3073; email: alex.zektser@faa.gov.

SUPPLEMENTARY INFORMATION:

Background

On January 4, 2012, the FAA published a final rule entitled, “Flightcrew Member Duty and Rest Requirements” (77 FR 330). In that rule, the FAA created a new part, part 117, which replaced the then-existing flight, duty, and rest regulations for part 121 passenger operations. As part of this rulemaking, the FAA also applied the new part 117 to certain part 91 operations, and it permitted all-cargo operations operating under part 121 to voluntarily opt into the part 117 flight, duty, and rest regulations.

After the final rule was published, the FAA discovered several errors in the regulatory text of the rule. These errors, and the corresponding corrections, are as follows.

Corrections

1. Effective Date

The final rule has a 2-year effective date. The preamble to the final rule emphasizes that “[t]he FAA has determined that two years is a substantial period of time, and that a longer effective date is unwarranted” (77 FR 392). Because the final rule was published on January 4, 2012, the effective date of the rule should be January 4, 2014 and not January 14, 2014. This rule has been corrected accordingly.

2. Definition of Flight Duty Period

The punctuation in the last sentence of this definition has been corrected so that the sentence ends in a period and not a colon.

3. Definition of Theater

The final rule defines theater as “a geographical area where local time at the flightcrew member's flight duty period departure point and arrival point differ by more than 60 degrees longitude.” This correction removes the phrase “local time” from this regulatory text because degrees longitude is a measure of distance and not time. In addition, to accurately depict the proper geographical area intended by the rule, the distance between departure and arrival points in a theater should differ by “no more than” 60 degrees longitude instead of “more than” 60 degrees longitude. Accordingly, the definition of theater has been corrected to specify that the distance between arrival and departure points in a single theater cannot exceed 60 degrees longitude.

4. Flight Duty Period Extension Reporting in § 117.19(b)(4)

The preamble to the final rule specifies that a certificate holder is only required to report FDP extensions that exceed the pertinent FDP limits by more than 30 minutes (77 FR 370-71). Accordingly, subsection 117.19(b)(4) has been corrected to clarify that a report for an FDP extension is only necessary if the FDP exceeded the pertinent FDP limit by more than 30 minutes.

5. Cumulative Limitations in § 117.23(b)

The cumulative flight-time limitations in § 117.23(b) have been corrected to clarify that a flightcrew member cannot accept an assignment that would cause that crewmember's total flight time to exceed either 100 hours in any 672 consecutive hours or 1,000 hours in any 365 consecutive calendar day period.

6. Rest Period in § 117.25(b)

Subsection 117.25(b) in the final rule states that “[b]efore beginning any reserve or flight duty period a flightcrew member must be given at least 30 consecutive hours free from all duty in any 168 consecutive hour period.” This section has been corrected to clarify that the “168 consecutive hour period” is the period that precedes the beginning of the flight duty period.

7. Emergency and Government Sponsored Operations in § 117.29

Section 117.29 applies to certain emergency and government-sponsored operations. The preamble to the final rule explains that, in certain situations, this section allows “the FDP and the flight time for a particular operation to be extended if deemed necessary by the pilot-in-command” (77 FR 387). However, the regulatory text of § 117.29 provided for an FDP extension but inadvertently did not apply the extension to flight-time. Accordingly, the regulatory text of this section has been corrected to provide for a flight-time extension in addition to an FDP extension. In addition, subsection 117.29(g) has been corrected so that it cross-references the correct paragraph of § 117.29.

8. Flight attendant duty period limitations and rest requirements in § 121.467(c)

The final rule intended to change this subsection so that it cross-references part 117 instead of subparts Q, R, and S, as the pertinent flight, duty, and rest provisions have been moved out of subparts Q, R, and S and into part 117. However, the regulatory text of the final rule also inadvertently deleted a number of other provisions that were in this subsection. As such, § 121.467(c) has been corrected so that this subsection cross-references part 117, but retains its other provisions. The FAA notes that, pursuant to § 117.13, an unaugmented crew of flight attendants who operate under part 117 would be subject to the flight duty period limits set out in Table B.

Accordingly, in the final rule, FR Doc. 2011-33078, published on January 4, 2012 (77 FR 330), make the following corrections:

Effective Date [Corrected]

1. On page 330, in the first column, the text of DATES is corrected to read as follows:

DATES: Effective January 4, 2014.

2. On page 398, in the third column, in § 117.3, the definition of “flight duty period (FDP)” is corrected to read as follows:

§ 117.3 Definitions.

* * * * *

Flight duty period (FDP) means a period that begins when a flightcrew member is required to report for duty with the intention of conducting a flight, a series of flights, or positioning or ferrying flights, and ends when the aircraft is parked after the last flight and there is no intention for further aircraft movement by the same flightcrew member. A flight duty period includes the duties performed by the flightcrew member on behalf of the certificate holder that occur before a flight segment or between flight segments without a required intervening rest period. Examples of tasks that are part of the flight duty period include deadhead transportation, training conducted in an aircraft or flight simulator, and airport/standby reserve, if the above tasks occur before a flight segment or between flight segments without an intervening required rest period.

* * * * *

3. On page 399, in the second column, in § 117.3, the definition of “theater” is corrected to read as follows:

§ 117.3 Definitions.

* * * * *

Theater means a geographical area in which the distance between the flightcrew member's flight duty period departure point and arrival point differs by no more than 60 degrees longitude.

* * * * *

4. On page 400, in the third column, in § 117.19, paragraph (b)(4) is corrected to read as follows:

§ 117.19 Flight duty period extensions.

* * * * *

(b) * * *

(4) Each certificate holder must report to the Administrator within 10 days any flight duty period that exceeded the maximum flight duty period limits permitted by Tables B or C of this part by more than 30 minutes. The report must contain a description of the circumstances surrounding the affected flight duty period.

5. On page 401, in the first column, in § 117.23, paragraph (b)(1) is corrected to read as follows:

§ 117.23 Cumulative limitations.

* * * * *

(b) * * *

(1) 100 hours in any 672 consecutive hours or

* * * * *

6. On page 401, in the first column, in § 117.25, paragraph (b) is corrected to read as follows:

§ 117.25 Rest Period.

* * * * *

(b) Before beginning any reserve or flight duty period a flightcrew member must be given at least 30 consecutive hours free from all duty within the past 168 consecutive hour period.

* * * * *

7. On the third column of page 401 and the first column of page 402, in § 117.29, paragraphs (b) and (g) are corrected to read as follows:

§ 117.29 Emergency and government sponsored operations.

* * * * *

(b) The pilot-in-command may determine that the maximum applicable flight duty period and/or flight time must be exceeded to the extent necessary to allow the flightcrew to fly to the closest destination where they can safely be relieved from duty by another flightcrew or can receive the requisite amount of rest prior to commencing their next flight duty period.

* * * * *

(g) Each certificate holder must implement the corrective action(s) reported pursuant to paragraph (f)(2) of this section within 30 days from the date of the extended flight duty period and/or the extended flight time.

* * * * *

8. On page 402, in the second and third columns, in § 121.467, correctly revise paragraphs (c) introductory text and (c)(1) to read as follows:

§ 121.467 Flight attendant duty period limitations and rest requirements: Domestic, flag, and supplemental operations.

* * * * *

(c) Notwithstanding paragraph (b) of this section, a certificate holder conducting domestic, flag, or supplemental operations may apply the flightcrew member flight time and duty limitations and rest requirements of part 117 of this chapter to flight attendants for all operations conducted under this part provided that—

(1) The certificate holder establishes written procedures that—

(i) Apply to all flight attendants used in the certificate holder's operation;

(ii) Include the flightcrew member requirements contained in part 117, as appropriate to the operation being conducted, except that rest facilities on board the aircraft are not required;

(iii) Include provisions to add one flight attendant to the minimum flight attendant complement for each flightcrew member who is in excess of the minimum number required in the aircraft type certificate data sheet and who is assigned to the aircraft under the provisions of part 117, as applicable, of this part;

(iv) Are approved by the Administrator and are described or referenced in the certificate holder's operations specifications; and

* * * * *

Issued in Washington, DC, on April 30, 2012.
Rebecca MacPherson,
Assistant Chief Counsel for Regulations, AGC-200.

[FR Doc. 2012-11592 Filed 5-15-12; 8:45 am]

BILLING CODE 4910-13-P